FEDERAL RETIREMENT THRIFT INVESTMENT BOARD

Sunshine Act; Notice of Board Member Meeting

Federal Retirement Thrift Investment Board

77 K Street NE., 10th Floor Board Room, Washington, DC 20002.

Agenda

Federal Retirement Thrift Investment Board Member Meeting. March 27, 2017, In Person, 8:30 a.m.

Open Session

1. Approval of the minutes for the February 27, 2017 Board Member Meeting

2. Monthly Reports

(a) Participant Activity Report

(b) Legislative Report

(c) Investment Report

3. OCFO Report

4. Vendor Financials

5. Blended Retirement Update

Closed Session

6. Information covered under 5 U.S.C. 552b(c)(4) and (c)(9)(B).

Adjourn

Kimberly Weaver, Director, Office of External Affairs, (202) 942-1640

Dated: March 16, 2017.
Dharmesh Vashee,
Acting General Counsel, Federal Retirement Thrift Investment Board.

[FR Doc. 2017-05542 Filed 3-16-17; 4:15 pm]

BILLING CODE 6760-01-P